DEPARTMENT OF THE TREASURY

Alcohol and Tobacco Tax and Trade Bureau

27 CFR Part 9

[Docket No. TTB-2020-0013; Notice No. 198]

RIN 1513-AC62

Proposed Expansion of the Clarksburg Viticultural Area

AGENCY: Alcohol and Tobacco Tax and Trade Bureau, Treasury.

ACTION: Notice of proposed rulemaking.

SUMMARY: The Alcohol and Tobacco Tax and Trade Bureau (TTB) proposes to expand the approximately 64,640-acre “Clarksburg” viticultural area by approximately 27,945 acres. The Clarksburg viticultural area is located in Sacramento, Solano, and Yolo Counties, in California, and the proposed expansion area is located in Sacramento and Solano Counties. The established Clarksburg viticultural area and the proposed expansion area are not located within any established viticultural area. TTB designates viticultural areas to allow vintners to better describe the origin of their wines and to allow consumers to better identify wines they may purchase. TTB invites comments on this proposed amendment to its regulations.

DATES: Comments must be received by January 11, 2021.

ADDRESSES: You may electronically submit comments to TTB on this proposal, and view copies of this document, its supporting materials, and any comments TTB receives on it within Docket No. TTB-2020-0013 as posted on Regulations.gov (https://www.regulations.gov), the Federal e-rulemaking portal. Please see the “Public Participation” section of this document below for full details on how to comment on this proposal via Regulations.gov or U.S. mail and for full details on how to view or obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing the establishment of an AVA and provides that any interested party may petition TTB to establish a grape-growing region as an AVA. Petitioners may use the same procedures to request changes involving existing AVAs. Section 9.12(c) of the TTB regulations (27 CFR 9.12(c)) prescribes standards for petitions for modifying established AVAs. Petitions to expand an established AVA must include the following:

• Evidence that the region within the proposed expansion area is nationally or locally known by the name of the established AVA;

• An explanation of the basis for defining the boundary of the proposed expansion area;

• A narrative description of the features of the proposed expansion area affecting viticulture, including climate, geology, soils, physical features, and elevation, that make the proposed expansion area similar to the established AVA and distinguish it from adjacent areas outside the established AVA boundary;

• The appropriate United States Geological Survey (USGS) map(s) showing the location of the proposed expansion area, with the boundary of the proposed expansion area clearly drawn thereon; and

• A detailed narrative description of the proposed expansion area boundary based on USGS map markings.

Petition To Expand the Clarksburg AVA

TTB received a petition from James Reamer of Reamer Farms vineyard, submitted on behalf of himself and other wine industry members, proposing to expand the established “Clarksburg” AVA. The Clarksburg AVA (27 CFR 9.95) was established by T.D. ATF-166, which published in the Federal Register on January 23, 1984 (49 FR 2758). The Clarksburg AVA covers approximately 64,640 acres in Sacramento, Solano, and Yolo Counties in California. The Clarksburg AVA and the proposed expansion area are not located within any other AVA. Although the established Clarksburg AVA does contain the established Merritt Island AVA (27 CFR 9.68), the proposed expansion area is not adjacent to the Merritt Island AVA and therefore would not affect the boundaries of that AVA. The petition included a letter from the Clarksburg Winegrowers and Vintners Association supporting the proposed expansion.

The proposed expansion area is adjacent to the southern portion of the established AVA and entirely encompasses Grand Island and Ryer Island, which together cover approximately 27,945 acres. The petitioner states that within the proposed expansion area there are 350 acres of grapevines on Grand Island and three vineyards on Ryer Island. Unless otherwise noted, all information and data pertaining to the proposed expansion area contained in this document come from the petition and its supporting exhibits.

Name Evidence

The expansion petition provides evidence that the name “Clarksburg” is used to describe a region larger than just the established Clarksburg AVA. For example, the petition included information on three limousine tour services offering tours of the Clarksburg region that each include at least one location within the proposed expansion area. Baja Limo's “Clarksburg Wine Tour” offers a stop at the Grand Island Vineyard's winery, which is located within the proposed expansion area on Grand Island.¹ Limousine Service Sacramento's “Clarksburg Wine Testing Tours” also offers a stop at the Grand Island Vineyard's tasting room and Six Hands Winery.² The Six Hands Winery is located on Andrus Island, which is adjacent to the eastern boundary of the proposed expansion area but outside of the established AVA. Although the winery is not within the established AVA or the proposed expansion area, its inclusion on the tour offers evidence that the region known as “Clarksburg” extends beyond the boundaries of the Clarksburg AVA. Finally, Exotic Limousine's “Concord-Clarksburg Wine Tour” travels from “Concord and the East Bay area to [the] Clarksburg appellation,” which includes “some of the very best wedding venues like the Grand Island Mansion.” ³ TTB notes that the Grand Island Mansion is a historic site located within the proposed AVA expansion area.

¹ www.bajalimo.net/clarksburg-wine-tours.

² www.limoservicesacramento.com/clarksburg-wine-tasting-tours.

³ www.limoserviceconcord.com/Concord_clarksburg_wine_tour.php.

Other examples of the use of the name “Clarksburg” to describe the proposed expansion area includes a vacation rental listing. This listing is for a property on Grand Island, which is within the proposed expansion area, and is listed under the general heading of “Clarksburg.” ⁴ Grand Island Vineyards, which is within the proposed expansion area, is included in a list of Clarksburg wineries on the American Winery Guide website.⁵ Finally, a map created by the Clarksburg Wine Growers and Vintners Association titled “Clarksburg Appellation Wine Country” shows the established AVA as well as Grand Island and Ryer Island, which are within the proposed expansion area.

⁴ www.vrbo.com/1311885.

⁵ www.americanwineryguide.com/regions/clarksburg-ava-wineries.

Boundary Evidence

The established Clarksburg AVA is a roughly triangular region at the confluence of the Sacramento River and the San Joaquin River. The lands within the Clarksburg AVA are mostly islands surrounded by rivers and/or sloughs. The Sacramento River Deep Water Ship Channel forms the majority of the western boundary, while the eastern boundary is formed by Interstate 5, a levee, and the Sacramento River. The southern boundary is formed by the Sacramento River, Steamboat Slough, Miner Slough, and Sutter Slough. To the north of the Clarksburg AVA is the city of Sacramento, which is too heavily urbanized for commercial viticulture.

The proposed expansion area is adjacent to the southern boundary of the Clarksburg AVA and consists of Ryer Island and Grand Island. The proposed boundary expansion would begin on the current boundary at the intersection of Miner Slough and the levee connecting the slough to the Sacramento River Deep Water Ship Channel. Instead of continuing east along Miner Slough to Steamboat Slough, as the current boundary does, the proposed boundary expansion would proceed south along Miner Slough to its confluence with Cache Slough. The proposed boundary would then proceed south along the Cache Slough to its confluence with the Sacramento River and then east-northeasterly along the Sacramento River to its intersection with the Delta Cross Channel and the Southern Pacific Railroad near Walnut Grove. At this point, the proposed expansion area boundary would rejoin the current Clarksburg AVA boundary.

To the west of both the AVA and the proposed expansion area is the Yolo Bypass that diverts floodwaters away from the city of Sacramento. Because of its frequent flooding, the petition states that this region is suitable only for wildlife habitat and summer annual crops. To the east of the Clarksburg AVA and the proposed expansion area is the Central Valley. To the south of the proposed expansion area are Andrus Island and Brennan Island, both of which have a persistently high water table that makes the potential for vineyards unlikely.

Distinguishing Features

The petition states that the soils, climate, and topography of the proposed expansion area are similar to those of the established Clarksburg AVA.

Soils

T.D. ATF-166 describes the soils of the Clarksburg AVA as poorly drained clay and clay loam soils. Little information is given about the soils of the surrounding regions except that viticulture to the west of the AVA is made impossible due to the combination of soils and flooding, and that the soils to the south of the AVA contain poorly drained organic and mineral soils.

The expansion petition provides more detailed information about the soils of the Clarksburg AVA and the surrounding regions. The expansion petition states that the lands within the Clarksburg AVA and the proposed expansion area readily fall into two groups: The alluvial fan-basin group and the flood plain-basin-blackswamp group. These landform groups influenced the development of the soils in the AVA. The alluvial fan-basin group lands are found mostly in the western portion of the Clarksburg AVA. Common soils found in these lands include the Lang, Laugenour, Maria, Merritt, Sycamore, Tyndall, and Valdez series. Egbert, Omni, Sacramento, and Willows soils are also present. The eastern portion of the Clarksburg AVA is characterized by flood plain-basin-blackswamp landforms. Soils commonly found in this region include the Columbia, Consumnes, Lang, Laugenour, Sailboat, and Valpac series, as well as Clear Lake, Dierssen, and Tinnin soils.

The proposed expansion area contains both flood plain-basin-blackswamp landforms and alluvial fan-basin landforms. Grand Island, in the eastern portion of the proposed expansion area, consists mostly of flood plain-basin-blackswamp landforms. Soils found in both Grand Island and the Clarksburg AVA include the Consumnes, Egbert, Laugenour, and Sailboat series. Ryer Island, in the western portion of the proposed expansion area, contains alluvial fan-basin landforms. Soils of the Egbert, Sacramento, and Valdez series are found in both the Clarksburg AVA and Ryer Island.

The expansion petition states that all of the soils of the Clarksburg AVA and the proposed expansion area share several characteristics, including low-to-moderate levels of organic material, poor to somewhat-poor drainage, and a combination of silt, clay, sand, and loam. Because of the poor drainage quality of the soils in both the proposed expansion area and the Clarksburg AVA, a well-placed and maintained system of ditches and canals is necessary, as are tile drains in some locations. The drainage systems lower the water table and allow the vineyard root zones to become better aerated. As a result, a better environment is created for the bottom of the vine trunks and the major roots that originate for them. The petition states that ridges in the vine rows called berms also allow for better drainage and are common features in both the AVA and the proposed expansion area. Additionally, vineyard owners often use rootstocks with greater-than-average tolerances of wet soils in order to limit the risk of significant root dieback and root diseases.

None of the alluvial fan-basin landform soils found in the proposed expansion area and the Clarksburg AVA are found in the regions to the east and south. These regions also contain a type of marshland soil called Rindge mucky silt loam, which is not found in either the Clarksburg AVA or the proposed expansion area. Furthermore, the soils to the east and south contain greater concentrations of organic matter. To the west of the proposed expansion area and the Clarksburg AVA, the common soils include the Capay and Pescadero series, which are not found in either the proposed expansion area or the AVA.

Climate

T.D. ATF-166 included precipitation as a distinguishing feature of the Clarksburg AVA, stating that the AVA received an average of 16 inches of rain annually. The regions to the north and east were described as having higher annual rainfall amounts, while the regions to the south and west had lower annual amounts. T.D. ATF-166 also briefly discussed temperature, noting that Sacramento, which is north of the Clarksburg AVA, is generally 8 to 10 degrees warmer than the AVA in the summer.

The proposed expansion petition includes information about the average annual rainfall amounts of the Clarksburg AVA and the surrounding regions, which suggest that the Clarksburg AVA receives less rainfall annually than the surrounding regions. However, the petition did not include annual average rainfall amounts from within the proposed expansion area for comparison. The proposed expansion petition did include the growing season rainfall amounts ⁶ for a location on Ryer Island, within the proposed expansion area, and from within the Clarksburg AVA. The data shows that during the growing seasons from 2013 to 2017, the Ryer Island location received a total of 2.5 inches of rain, while the Clarksburg AVA location received 3.1 inches. However, the proposed expansion petition did not include growing season rainfall amounts from the surrounding regions for comparison, so TTB is unable to determine if the growing season rainfall amounts within the proposed expansion area are more similar to those of the Clarksburg AVA than to those of the surrounding regions.

⁶ The growing season is defined as April 1 through October 31.

The expansion petition also provides more detailed information on temperatures in the region than what was included in T.D. ATF-166. The information on the growing season mean, maximum, and minimum temperatures from within the Clarksburg AVA and the proposed expansion area is included in the following table, and suggests that the climate of the proposed expansion area is similar to that of the Clarksburg AVA. The petition states that temperature within the Clarksburg AVA and the proposed expansion area are suitable for growing a variety of wine grapes, including Pinot Noir, Pinot Gris, and Chardonnay.

⁷ Data source: Lodi Winegrape Commission via Western Weather Group, 2013-2017. https://lodi.westernweathergroup.com.

⁸ Data source: Private weather station at Reamer Farms, 2012-2014, and Ranch Systems, 2016-2017.

⁹ Data source: Lodi Winegrape Commission via Western Weather Group, 2013-2017. https://lodi.westernweathergroup.com.

¹⁰ Data source: Private weather station at Rio Viento Vineyard, 2012-2014, and Ranch Systems, 2016-2017.

Table—Growing Season Temperature Averages in Degrees Fahrenheit
Location | Mean | Maximum | Minimum
Within Clarksburg AVA
Clarksburg ⁷ | 67.7 | 85.8 | 52.3
Lake Winchester ⁸ | 67.8 | 85.0 | 53.2
Within Proposed Expansion Area
Ryer Island ⁹ | 68.7 | 85.1 | 53.3
Grand Island ¹⁰ | 67.8 | 83.7 | 53.4

The expansion petition also includes graphs showing the average growing season mean, minimum, and maximum temperatures gathered from the Western Regional Climate Center ¹¹ for a weather station location within the Clarksburg AVA and 10 weather station locations in the surrounding regions. For each location, the data was collected from a minimum of 38 years, which provides a broad picture of the climate of the region.¹² The graphs do not include data from within the proposed expansion area. However, the other data in the petition demonstrates that the proposed expansion area has temperatures similar to the Clarksburg AVA. Therefore, TTB believes that the Clarksburg location used in the graphs is an acceptable stand-in for the proposed expansion area for the purpose of comparison to the surrounding regions.

¹¹ www.wrcc.dri.edu.

¹² For a listing of all weather station locations and the period of record for each, see Exhibit 9 of the expansion petition in Docket TTB-2020-0013 at www.regulations.gov.

The graphs show that the location within the Clarksburg AVA had the lowest growing season mean temperature of all the locations. Additionally, the Clarksburg location had a lower growing season maximum temperature than all but two of the locations and a lower average growing season minimum temperature than all but three of the locations. Most notably, the temperatures for the Clarksburg location were all lower than the temperatures for the two Sacramento weather stations, supporting the claim in T.D. ATF-166 that temperatures in the Clarksburg AVA are typically lower than those in Sacramento to the north of the AVA.

Topography

T.D. ATF-166, which established the Clarksburg AVA, did not consider topography to be a distinguishing feature of the Clarksburg AVA, only noting that the “lower terraces to the east” of the AVA are prone to flooding.¹³ However, the expansion petition includes topographic information to demonstrate that the proposed expansion area is more topographically similar to the Clarksburg AVA than the surrounding regions outside the AVA. The petition includes a table of the highest and lowest elevations from locations within the Clarksburg AVA, which is north of the proposed expansion area, as well as from within the proposed expansion area and the regions to the south, west, and east.

¹³ 48 FR 2759.

The expansion petition states that due to the low elevations throughout the Sacramento Delta, the islands once regularly flooded. The entire delta would flood periodically during spring tides and river floods, and the islands furthest downstream would flood daily during high tides. However, a system of levees, open ditches, and canals has made viticulture possible within the Clarksburg AVA and the proposed expansion area. Within the proposed expansion area, elevations range from a lowest point of 10 feet below sea level to a highest point of 5 feet above sea level. Within the current boundaries of the Clarksburg AVA, elevations range from 10 feet below sea level to 10 feet above sea level.

By comparison, elevations in the surrounding regions are generally lower than within the Clarksburg AVA and the proposed expansion area. The region east of the proposed expansion area has elevations between 15 feet below sea level on Tyler Island and Staten Island, and 5 feet above sea level at the city of Walnut Grove and the upper portion of Andrus Island. To the south of both the AVA and proposed expansion area, elevations range from 20 feet below sea level to 0 feet above sea level. To the west of the proposed expansion area, elevations range from 5 feet below sea level on Liberty Island and the Egbert Tract Reclamation District to a high of 10 feet above sea level on the Egbert Tract. The petition states that the generally lower elevations in the surrounding regions also mean that the depths to water tables are appreciably shallower than within the AVA and the proposed expansion area. As a result, functional root zones are very shallow, and the potential for viticulture in these regions is feasible but limited.

Although topography was not considered to be a distinguishing feature of the Clarksburg AVA in T.D. ATF-166, we are including a discussion of topography in this proposed rule because TTB agrees that the range of elevations within the proposed expansion area appears to be similar to that of the Clarksburg AVA. The data in the expansion petition suggests that the regions to the south and east have lower elevations than both the proposed expansion area and the Clarksburg AVA. While the data indicates that the elevations to the west of the proposed expansion area are within the range of those of the Clarksburg AVA, the frequency of flooding in the Yolo Bypass would be a logical reason for not including it in the proposed expansion area. TTB is seeking comment on whether the topography of the proposed expansion area provides additional support for including the proposed expansion area in the established AVA.

TTB Determination

TTB concludes that the petition to expand the boundaries of the established Clarksburg AVA merits consideration and public comment, as invited in this notice of proposed rulemaking.

Boundary Description

See the narrative description of the boundary of the petitioned-for expansion area in the proposed regulatory text published at the end of this proposed rule.

Maps

The proposed boundary change to the Clarksburg AVA would affect the portion of the current AVA boundary shown on the 1:24,000 scale Liberty Island, Isleton, and Courtland quadrangle maps, and would add the 1:24,000 scale Rio Vista quadrangle map to the list of maps in the regulatory text of 27 CFR 9.95. The petitioner included copies of these maps in the expansion petition. You may also view a map of the proposed expansion of the Clarksburg AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

The approval of the proposed expansion of the Clarksburg AVA would not affect any other existing viticultural area, including the established Merritt Island AVA, which is located within the Clarksburg AVA. The proposed expansion of the Clarksburg AVA would allow vintners to use “Clarksburg” as an appellation of origin for wines made primarily from grapes grown within the proposed expansion area if the wines meet the eligibility requirements for the appellation. The proposed AVA expansion would not affect any vintners using “Merritt Island” as an appellation of origin on wine labels.

Public Participation

Comments Invited

TTB invites comments from interested members of the public on whether it should expand the Clarksburg AVA as proposed. TTB is specifically interested in receiving comments on the similarity of the proposed expansion area to the established Clarksburg AVA, as well as the differences between the proposed expansion area and the areas outside the Clarksburg AVA. Please provide specific information in support of your comments.

Submitting Comments

You may submit comments on this notice of proposed rulemaking by using one of the following methods:

• Federal e-Rulemaking Portal: You may send comments via the online comment form posted with this notice within Docket No. TTB-2020-0013 on “Regulations.gov,” the Federal e-rulemaking portal, at http://www.regulations.gov. A direct link to that docket is available under Notice No. 198 on the TTB website at https://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

Please submit your comments by the closing date shown above in this notice. Your comments must reference Notice No. 198 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2020-0013 on the Federal e-rulemaking portal, Regulations.gov, at http://www.regulations.gov. A direct link to that docket is available on the TTB website at https://www.ttb.gov/wine/wine_rulemaking.shtml under Notice No. 198. You may also reach the relevant docket through the Regulations.gov search page at http://www.regulations.gov. For information on how to use Regulations.gov, click on the website's “Help” tab.

All posted comments will display the commenter's name, organization (if any), city, and State, and, in the case of mailed comments, all address information, including email addresses. TTB may omit voluminous attachments or material that the Bureau considers unsuitable for posting.

You may also obtain copies of this proposed rule, all related petitions, maps and other supporting materials, and any electronic or mailed comments that TTB receives about this proposal at 20 cents per 8.5- x 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of an AVA name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Section 9.95 is amended by adding paragraph (b)(9), revising paragraphs (c)(4) and (5), redesignating paragraphs (c)(6) through (12) as paragraphs (c)(7) through (13), and adding new paragraph(c)(6) to read as follows:

§ 9.95 Clarksburg.

* * * * *

(b) * * *

(9) Rio Vista, Calif., 1978 (minor revision 1993).

(c) * * *

(4) Then south along Miner Slough to the point where it joins Cache Slough.

(5) Then south along Cache Slough to the point where it joins the Sacramento River.

(6) Then east, then generally northeasterly along the meandering Sacramento River to the point where it meets the Delta Cross Channel at the Southern Pacific Railroad.

* * * * *

Signed: September 5, 2020.
Mary G. Ryan,
Administrator.
Approved: October 9, 2020.
Timothy E. Skud,
Deputy Assistant Secretary (Tax, Trade, and Tariff Policy).

[FR Doc. 2020-24140 Filed 11-9-20; 8:45 am]

BILLING CODE 4810-31-P